DEPARTMENT OF JUSTICE

Antitrust Division

Notice Pursuant to the National Cooperative Research and Production Act of 1993—Coalition for Healthcare Estandards, Inc.

Notice is hereby given that, on February 14, 2001, pursuant to Section 6(a) of the National Cooperative Research and Production Act of 1993, 15 U.S.C. 4301 et seq. (“the Act”), the Coalition for Healthcare eStandards, Inc. (The “Coalition”) has filed written notifications simultaneously with the Attorney General and the Federal Trade Commission disclosing (1) the identities of the parties and (2) the nature and objective of the venture. The notifications were filed for the purpose of invoking the Act's provisions limiting the recovery of antitrust plaintiffs to actual damages under specified circumstances.

Pursuant to Section 6(b) of the Act, the identities of the parties are: Consorta, Rolling Meadows, IL; empactHealth.com, Nashville, TN; Global Healthcare Healthcare Exchange, Westminister, CO; HealthTrust Purchasing Group, Nashville, TN; MedAssets.com, Alpharetta, GA; MedCenterDirect.com, Atlanta, GA; Medibuy.com, San Diego, CA; Neoforma.com, Inc., San Jose, CA; The New Health Exchange, St. Louis Park, MN; Novation, LLC, Irving, TX; and Premier, Inc., San Diego, CA.

The general area of planned activity is to promote the development and adoption of uniform, open standards for supply chain transactions made over the Internet (“Standards”); to promote such Standards worldwide; and to undertake such other activities as may from time to time be appropriate to further the purposes and achieve these goals.

Constance K. Robinson,
Director of Operations Antitrust Division.

[FR Doc. 01-13770 Filed 5-31-01; 8:45 am]

BILLING CODE 4410-11-M